FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—01/07/2002
20020227 | Jean Coutu | Albertson's Inc | Albertson's Inc.
20020245 | R.J. Reynolds Tobacco Holdings, Inc | Sante Fe Natural Tobacco Company, Inc | Sante Fe Natural Tobacco Company, Inc.
20020256 | Tellabs, Inc | Ocular Networks, Inc | Ocular Networks, Inc.
20020258 | Biovail Corporation | Solvay S.A | Solvay Pharmaceuticals Marketing and Licensing AG.
TRANSACTIONS GRANTED EARLY TERMINATION—01/09/2002
20012259 | Philip F. Anschutz | Regal Cinemas, Inc | Regal Cinemas, Inc.
20012260 | OCM Principal Opportunities Fund II, L.P | Regal Cinemas, Inc | Regal Cinemas, Inc.
20020272 | Mars Inc | BNP Paribas | Royal Canin SA.
20020280 | Level 3 Communications, Inc | McLeodUSA Incorporated | McLeonUSA Information Services, Inc.
|  |  | McLeonUSA Purchasing L.L.C.
|  |  | McLeonUSA Telecommunications Services, Inc.
20020281 | Arthur L. Allen | Landmark Systems Corporation | Landmark Systems Corporation.
20020292 | VeriSign, Inc | LiveWire Systems, L.L.C | LiveWire Corporation.
20020293 | LiveWire Systems, L.L.C | VeriSign, Inc | VeriSign, Inc.
20020296 | D&E Communications, Inc | Conestoga Enterprises, Inc | Conestoga Enterprises, Inc.
20020300 | Greenwich Street Capital Partners, II, L.P | Moore Corporation Limited | Moore Corporation Limited.
TRANSACTIONS GRANTED EARLY TERMINATION—01/14/2002
20020266 | Millennium Pharmaceuticals, Inc | COR Therapeutics, Inc | COR Therapeutics, Inc.
20020273 | Lattice Semiconductor Corporation | Lucent Technologies, Inc | Agere Systems, Inc.
20020277 | Vivendi Universal, S.A | Charles W. Ergen | EchoStar Communications Corporation.
20020288 | General Electric Company | Berwind LLC | Interlogix, Inc.
20020301 | CSG Systems International, Inc | Lucent Technologies Inc | Lucent Technologies Inc.
20020303 | Capital Z Partners, Ltd | PXRE Group Ltd | PXRE Group Ltd.
20020307 | General Electric Company | Security Capital Group Incorporated | Security Capital Group Incorporated.
20020308 | Pharmaceutical Resources, Inc | Samuel J. Heyman | ISP Chemicals Inc.
|  |  | ISP Hungary Holdings Ltd.
|  |  | ISP Investments Inc.
|  |  | ISP Technologies Inc.
20020309 | Washington Mutual, Inc | National Australia Bank Limited | CFC, Inc.
|  |  | HMC Financial, Inc.
|  |  | Homeside Funding Corporation.
|  |  | Homeside International, Inc.
|  |  | Homeside Lending, Inc.
|  |  | Homeside Solutions, Inc.
|  |  | HSL Realty Tax Services Corporation.
|  |  | SWD Properties, Inc.
20020311 | Advent Software, Inc | Kinexus Corporation | Kinexus Corporation.
20020313 | The Goldman Sachs Group, Inc | Thomas F. McGowan | Hilary, L.L.C.
|  |  | TFM Investment Group.
TRANSACTIONS GRANTED EARLY TERMINATION—01/16/2002
20020289 | NEC Corporation | Tokin Corporation | Tokin Corporation.
20020304 | Danaher Corporation | Marconi plc | Marconi Commerce Systems Limited.
|  |  | Marconi commerce Systems, Inc.
20020305 | Ralcorp Holdings, Inc | David L. & DeAnn R. Stone | Lofthouse Foods Incorporated.
TRANSACTIONS GRANTED EARLY TERMINATION—01/18/2002
20020200 | General Electric Company | Donald E. Bently | Bently Nevada Corporation.
20020350 | Verizon Communications Inc | Verizon Communications Inc | Telecommunications de Puerto Rico, Inc.

FOR FURTHER INFORMATION CONTACT: Sandra M. Peay or Chandra L, Kennedy, Contact Representative, Federal Trade Commission, Premerger Notification Office, Bureau of Competition, Room 303, Washington, DC 20580, (202) 326-3100.

By Direction of the Commission.
Donald S. Clark,
Secretary.

[FR Doc. 02-2114 Filed 1-28-02; 8:45 am]

BILLING CODE 6750-01-M